DEPARTMENT OF THE INTERIOR

National Park Service

[NPS-WASO-NAGPRA-NPS0036472; PPWOCRADN0-PCU00RP14.R50000]

Notice of Inventory Completion: California State University, Los Angeles, Los Angeles, CA

AGENCY: National Park Service, Interior.

ACTION: Notice.

SUMMARY: In accordance with the Native American Graves Protection and Repatriation Act (NAGPRA), California State University, Los Angeles has completed an inventory of human remains (hereafter referred to as “ancestors”) in consultation with the appropriate Indian Tribes or Native Hawaiian organizations and has determined that there is a cultural affiliation between the ancestors and Indian Tribes or Native Hawaiian organizations in this notice. The ancestors were removed from Los Angeles County, CA.

DATES: Repatriation of the ancestors in this notice will occur on or after September 27, 2023.

ADDRESSES: Michele Bleuze, California State University, 5151 State University Drive, Los Angeles, CA 90032, telephone (323) 343-2440, email mbleuze@calstatela.edu; Amira Ainis, California State University, 5151 State University Drive, Los Angeles, CA 90032, telephone (323) 343-2449, email aainis2@calstatela.edu.

SUPPLEMENTARY INFORMATION: This notice is published as part of the National Park Service's administrative responsibilities under NAGPRA. The determinations in this notice are the sole responsibility of California State University, Los Angeles. The National Park Service is not responsible for the determinations in this notice. Additional information on the determinations in this notice, including the results of consultation, can be found in the inventory or related records held by California State University, Los Angeles.

Description

A minimum of two ancestors were removed from Los Angeles County, CA. Located in the City of Carson, CA-LAN-98 is the site of Suangna, a known Gabrielino-Tongva village. According to one source, it may have been occupied as late as 1813 (McCawley, 1996). Another source notes that, based on artifact comparisons, CA-LAN-98 was occupied for approximately 600 years, from A.D. 1200-1800 (Eggers, 1977:44). It was first excavated by Racer in 1910. In the late 1960s and early 1970s, Hal Eberhart from LA City College and Ken Kuykendall and A. Van D. Eggers from Dominquez College conducted excavations there, as did Charles Irwin of the Bowers Museum in 1972-1973. The collection from CA-LAN-98 at California State University, Los Angeles is assumed to have arrived in the late 1960s or early 1970s with Hal Eberhart, at that time a faculty member. (No reports or documents regarding this collection have been found at California State University, Los Angeles.) As no current faculty have examined the human remains, the following descriptions derive solely from box and bag labels. One bag is labeled “Watson Site, Burial #1” and another is labeled “Watson Site, Burial #2.” There is also one small bag labeled “Skull fragments, no location, Watson” along with what appears to be added, in faint pencil, “associated with Burial #1.” No associated funerary objects are present. (Additional collections from CA-LAN-98 are housed at California State University, Dominguez Hills, and a master's thesis from California State University, Fullerton indicates that additional materials from this site are curated with the Pacific Coast Archaeological Society (Graling, 2004).)

Cultural Affiliation

The ancestors in this notice are connected to one or more identifiable earlier groups, tribes, peoples, or cultures. There is a relationship of shared group identity between the identifiable earlier groups, tribes, peoples, or cultures and one or more Indian Tribes or Native Hawaiian organizations. The following types of information were used to reasonably trace the relationship: geographical, archeological, and expert opinion.

Determinations

Pursuant to NAGPRA and its implementing regulations, and after consultation with the appropriate Indian Tribes and Native Hawaiian organizations, California State University, Los Angeles has determined that:

• Pursuant to 25 U.S.C. 3001(9), the ancestors described in this notice represent the physical remains of at least two individuals of Native American ancestry.

• Pursuant to 25 U.S.C. 3001(2), there is a relationship of shared group identity that can be reasonably traced between the Native American ancestors described in this notice and the Santa Rosa Band of Cahuilla Indians, California and the Soboba Band of Luiseno Indians, California.

Requests for Repatriation

Written requests for repatriation of the ancestors in this notice must be sent to the Responsible Officials identified in ADDRESSES. Requests for repatriation may be submitted by:

1. Any one or more of the Indian Tribes or Native Hawaiian organizations identified in this notice and, if joined to a request from one or more of the Indian Tribes, the following non-federally recognized Indian groups: the Gabrieleno Band of Mission Indians-Kizh Nation; Gabrieleno/Tongva San Gabriel Band of Mission Indians; Gabrielino/Tongva Nation; Gabrielino Tongva Indians of California Tribal Council (Bellflower and Simi Valley); and the Gabrielino-Tongva Tribe.

2. Any lineal descendant, Indian Tribe, or Native Hawaiian organization not identified in this notice who shows, by a preponderance of the evidence, that the requestor is a lineal descendant or a culturally affiliated Indian Tribe or Native Hawaiian organization.

Repatriation of the ancestors in this notice to a requestor will occur on or after September 27, 2023. If competing requests for repatriation are received, California State University, Los Angeles must determine the most appropriate requestor prior to repatriation. Requests for joint repatriation of the ancestors are considered a single request and not competing requests. California State University, Los Angeles is responsible for sending a copy of this notice to the Indian Tribes identified in this notice.

Authority: Native American Graves Protection and Repatriation Act, 25 U.S.C. 3003, and the implementing regulations, 43 CFR 10.9, 10.10, and 10.14.

Dated: August 18, 2023.
Melanie O'Brien,
Manager, National NAGPRA Program.

[FR Doc. 2023-18509 Filed 8-25-23; 8:45 am]

BILLING CODE 4312-52-P